DEPARTMENT OF ENERGY

Federal Energy Regulatory Commission

Combined Notice of Filings #1

Take notice that the Commission received the following electric rate filings:

Docket Numbers: ER17-236-000.

Applicants: Southwestern Public Service Company.

Description: § 205(d) Rate Filing: 10-31-16 SAP Ministerial Filing to be effective 1/1/2016.

Filed Date: 10/31/16.

Accession Number: 20161031-5200.

Comments Due: 5 p.m. ET 11/21/16.

Docket Numbers: ER17-237-000.

Applicants: Northern Indiana Public Service Company.

Description: Tariff Cancellation: Cancellation of PST and Associated Service Agreements to be effective 1/1/2017.

Filed Date: 10/31/16.

Accession Number: 20161031-5207.

Comments Due: 5 p.m. ET 11/21/16.

Docket Numbers: ER17-238-000.

Applicants: Southwestern Public Service Company.

Description: § 205(d) Rate Filing: SAP Ministerial Filing to be effective 4/16/2016.

Filed Date: 10/31/16.

Accession Number: 20161031-5222.

Comments Due: 5 p.m. ET 11/21/16.

Docket Numbers: ER17-239-000.

Applicants: TPE Alta Luna, LLC.

Description: Baseline eTariff Filing: Baseline new to be effective 1/3/2017.

Filed Date: 10/31/16.

Accession Number: 20161031-5225.

Comments Due: 5 p.m. ET 11/21/16.

Docket Numbers: ER17-240-000.

Applicants: Old Dominion Electric Cooperative.

Description: § 205(d) Rate Filing: Request to Update Depreciation Rates for Wholesale Production Service to be effective 1/1/2017.

Filed Date: 10/31/16.

Accession Number: 20161031-5229.

Comments Due: 5 p.m. ET 11/21/16.

Docket Numbers: ER17-241-000.

Applicants: Northern Indiana Public Service Company.

Description: Tariff Cancellation: Cancellation of OATT and Associated Service Agreements to be effective 1/1/2017.

Filed Date: 10/31/16.

Accession Number: 20161031-5231.

Comments Due: 5 p.m. ET 11/21/16.

Docket Numbers: ER17-242-000.

Applicants: Gavin Power, LLC.

Description: Baseline eTariff Filing: Gavin Power, LLC Application for Market Based Rate Authorization to be effective 1/1/2017.

Filed Date: 10/31/16.

Accession Number: 20161031-5234.

Comments Due: 5 p.m. ET 11/21/16.

Docket Numbers: ER17-243-000.

Applicants: Lawrenceburg Power, LLC.

Description: Baseline eTariff Filing: Lawrenceburg Power, LLC Application for Market Based Rate Authorization to be effective 1/1/2017.

Filed Date: 10/31/16.

Accession Number: 20161031-5242.

Comments Due: 5 p.m. ET 11/21/16.

Docket Numbers: ER17-244-000.

Applicants: PJM Interconnection, L.L.C.

Description: § 205(d) Rate Filing: Interconnection Service Agreement No. 4063; Queue AB2-014 to be effective 9/30/2016.

Filed Date: 10/31/16.

Accession Number: 20161031-5248.

Comments Due: 5 p.m. ET 11/21/16.

Docket Numbers: ER17-245-000.

Applicants: Waterford Power, LLC.

Description: Baseline eTariff Filing: Waterford Power, LLC Application for Market Based Rate Authorization to be effective 1/1/2017.

Filed Date: 10/31/16.

Accession Number: 20161031-5251.

Comments Due: 5 p.m. ET 11/21/16.

Docket Numbers: ER17-246-000.

Applicants: Dynegy Oakland, LLC.

Description: § 205(d) Rate Filing: Annual RMR Section 205 Filing and RMR Schedule F Informational Filing to be effective 1/1/2017.

Filed Date: 10/31/16.

Accession Number: 20161031-5256.

Comments Due: 5 p.m. ET 11/21/16.

Docket Numbers: ER17-247-000.

Applicants: Wisconsin Power and Light Company.

Description: § 205(d) Rate Filing: WPL Changes in Depreciation & Amortization for Wholesale Production Service to be effective 1/1/2017.

Filed Date: 10/31/16.

Accession Number: 20161031-5257.

Comments Due: 5 p.m. ET 11/21/16.

Docket Numbers: ER17-248-000.

Applicants: Southern California Edison Company.

Description: § 205(d) Rate Filing: SCE 2017 ETC Reliability Service Rate Update to be effective 1/1/2017.

Filed Date: 10/31/16.

Accession Number: 20161031-5258.

Comments Due: 5 p.m. ET 11/21/16.

Docket Numbers: ER17-249-000.

Applicants: PJM Interconnection, L.L.C.

Description: § 205(d) Rate Filing: Stated Rates Filing to be effective 1/1/2017.

Filed Date: 10/31/16.

Accession Number: 20161031-5259.

Comments Due: 5 p.m. ET 11/21/16.

Docket Numbers: ER17-250-000.

Applicants: Southern California Edison Company.

Description: § 205(d) Rate Filing: 2016 TRBAA Update Filing to be effective 1/1/2017.

Filed Date: 10/31/16.

Accession Number: 20161031-5260.

Comments Due: 5 p.m. ET 11/21/16.

Docket Numbers: ER17-251-000.

Applicants: San Joaquin Cogen, LLC.

Description: Tariff Cancellation: Notice of Cancellation to be effective 11/1/2016.

Filed Date: 10/31/16.

Accession Number: 20161031-5261.

Comments Due: 5 p.m. ET 11/21/16.

Docket Numbers: ER17-252-000.

Applicants: 2016 ESA Project Company, LLC.

Description: Baseline eTariff Filing: Application for MBR Authority and Initial BaselineTariff Filing to be effective 11/1/2016.

Filed Date: 10/31/16.

Accession Number: 20161031-5266.

Comments Due: 5 p.m. ET 11/21/16.

Docket Numbers: ER17-253-000.

Applicants: Southwest Power Pool, Inc.

Description: § 205(d) Rate Filing: Omaha Public Power District Formula Rate Revisions to be effective 1/1/2017.

Filed Date: 10/31/16.

Accession Number: 20161031-5267.

Comments Due: 5 p.m. ET 11/21/16.

Docket Numbers: ER17-254-000.

Applicants: Otter Tail Power Company.

Description: § 205(d) Rate Filing: Temporary Structure Sharing Agreement to be effective 10/1/2016.

Filed Date: 10/31/16.

Accession Number: 20161031-5268.

Comments Due: 5 p.m. ET 11/21/16.

Docket Numbers: ER17-255-000.

Applicants: Alabama Power Company.

Description: § 205(d) Rate Filing: SWE (PowerSouth Territorial) NITSA Amendment (Add PREC Pitchford Farms DP) to be effective 10/31/2015.

Filed Date: 10/31/16.

Accession Number: 20161031-5270.

Comments Due: 5 p.m. ET 11/21/16.

Docket Numbers: ER17-256-000.

Applicants: Darby Power, LLC.

Description: Baseline eTariff Filing: Darby Power, LLC Application for Market-Based Rate Authorization to be effective 1/1/2017.

Filed Date: 10/31/16.

Accession Number: 20161031-5271.

Comments Due: 5 p.m. ET 11/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2016.
Nathaniel J. Davis, Sr.,
Deputy Secretary.

[FR Doc. 2016-26836 Filed 11-4-16; 8:45 am]

BILLING CODE 6717-01-P